DEPARTMENT OF COMMERCE

International Trade Administration

(A-469-814)

Chlorinated Isocyanurates from Spain: Rescission of Antidumping Duty Administrative Review

AGENCY: Import Administration, International Trade Administration, Department of Commerce.

EFFECTIVE DATE: November 23, 2009.

FOR FURTHER INFORMATION CONTACT: Myrna Lobo or Andrew Huston, AD/CVD Operations, Office 6, Import Administration, International Trade Administration, U.S. Department of Commerce, 14th Street and Constitution Avenue, NW, Washington, DC 20230; telephone: (202) 482-2371 or (202) 482-4261 respectively.

Background

On June 1, 2009, the Department of Commerce (“the Department”) published in the Federal Register a notice of “Opportunity to Request an Administrative Review” of the antidumping order on chlorinated isocyanurates from Spain for the period June 1, 2008 through May 31, 2009. See Antidumping or Countervailing Duty Order, Finding, or Suspended Investigation; Opportunity to Request Administrative Review, 74 FR 26202 (June 1, 2009). On June 23, 2009, in accordance with 19 CFR 351.213(b), the Department received a timely request from Aragonesas Industrias y Energia (Aragonesas) to conduct an administrative review of Aragonesas. On June 30, 2009, Clearon Corporation and Occidental Chemical Corporation, (collectively, petitioners), submitted a timely request to conduct an administrative review of Aragonesas.

On July 29, 2009, the Department published a notice of initiation of an antidumping duty administrative review of Aragonesas' exports of chlorinated isocyanurates from Spain. See Initiation of Antidumping and Countervailing Duty Administrative Reviews and Deferral of Administrative Review, 74 FR 37690 (July 29, 2009). On October 19, 2009 Aragonesas timely withdrew its request for review. Petitioners timely withdrew their request on October 27, 2009.

Rescission of Administrative Review

Pursuant to 19 CFR 351.213(d)(1), the Secretary will rescind an administrative review, in whole or in part, if the parties that requested a review withdraw the request within 90 days of the date of publication of the notice of initiation of the requested review. On October 19, 2009 Aragonesas withdrew its request for review, and petitioners withdrew their request on October 27, 2009. All parties withdrew their requests before the 90-day deadline. Therefore, in response to the parties' timely withdrawals of their requests for review, and pursuant to 19 CFR 351.213(d)(1), the Department is rescinding the administrative review of the antidumping duty order on chlorinated isocyanurates from Spain for the period June 1, 2008 through May 31, 2009.

Assessment

The Department will instruct U.S. Customs and Border Protection (“CBP”) to assess antidumping duties on all appropriate entries. Since Aragonesas' review is being rescinded, antidumping duties shall be assessed at rates equal to the cash deposit of estimated antidumping duties required at the time of entry, or withdrawal from warehouse, for consumption, in accordance with 19 CFR 351.212(c)(1)(i). The Department intends to issue appropriate assessment instructions to CPB 15 days after publication of this rescission notice in the Federal Register.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as a final reminder to parties subject to administrative protective orders (APO) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with 19 CFR 351.213(d)(4).

Dated: November 17, 2009.
John M. Andersen,
Acting Deputy Assistant Secretary for Antidumping and Countervailing Duty Operations.

[FR Doc. E9-28051 Filed 11-20-09; 8:45 am]

BILLING CODE 3510-DS-S